ENVIRONMENTAL PROTECTION AGENCY

[EPA-HQ-OAR-2020-0638; FRL-9385-01-OMS]

Information Collection Request Submitted to OMB for Review and Approval; Comment Request; National Emission Standards for Hazardous Air Pollutants (NESHAP) for Leather Finishing Operations) (Renewal)

AGENCY: Environmental Protection Agency (EPA).

ACTION: Notice.

SUMMARY: The Environmental Protection Agency (EPA) has submitted an information collection request (ICR), National Emission Standards for Hazardous Air Pollutants (NESHAP) for Leather Finishing Operations (EPA ICR Number 1985.10, OMB Control Number 2060-0478), to the Office of Management and Budget (OMB) for review and approval in accordance with the Paperwork Reduction Act. This is a proposed extension of the ICR, which is currently approved through February 28, 2022. Public comments were previously requested, via the Federal Register, on February 8, 2021 during a 60-day comment period. This notice allows for an additional 30 days for public comments. A fuller description of the ICR is given below, including its estimated burden and cost to the public. An agency may not conduct or sponsor and a person is not required to respond to a collection of information unless it displays a currently-valid OMB control number.

DATES: Additional comments may be submitted on or before January 26, 2022.

ADDRESSES: Submit your comments, referencing Docket ID Number EPA-HQ-OAR-2020-0638, online using www.regulations.gov (our preferred method) or by mail to EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: https://www.epa.gov/dockets.

Abstract: The National Emission Standards for Hazardous Air Pollutants (NESHAP) for Leather Finishing Operations (40 CFR part 63, subpart TTTT) apply to existing and new leather finishing facilities that are major sources of HAP or are collocated with other sources that are individually or collectively a major source of HAP emissions. Owners and operators of affected facilities are required to submit initial notifications, performance tests, and periodic reports. They are also required to maintain records of the occurrence and duration of any startup, shutdown, or malfunction in the operation of an affected facility, or any period during which the monitoring system is inoperative. These notifications, reports, and records are used by the EPA to determine compliance with these standards.

Form Numbers: None.

Respondents/affected entities: Leather finishing operations.

Respondent's obligation to respond: Mandatory (40 CFR part 63, subpart TTTT).

Estimated number of respondents: 4 (total).

Frequency of response: Initially, occasionally and annually.

Total estimated burden: 138 hours (per year). Burden is defined at 5 CFR 1320.3(b).

Total estimated cost: $16,300 (per year), which includes $0 in annualized capital/startup expense and/or operation & maintenance costs.

Changes in the Estimates: There is an adjustment increase in the total estimated burden as currently identified in the OMB Inventory of Approved Burdens. This increase is not due to any program changes. The change in the burden and cost estimates occurred because the previous ICR assumed that respondents would only need to familiarize with the regulatory requirements once, during the year in which rule revisions occurred, and omitted familiarization with the regulatory requirements in the years following. This ICR assumes that respondents will need to familiarize with the regulatory requirements every year. The overall result is a small increase in burden hours and costs. Aside from this minor change in burden hours, the only other change is due to a slight increase in costs, which is wholly due to the use of updated labor rates. This ICR uses labor rates from the most-recent Bureau of Labor Statistics report (September 2020) to calculate respondent burden costs.

Courtney Kerwin,
Director, Regulatory Support Division.

[FR Doc. 2021-28047 Filed 12-23-21; 8:45 am]

BILLING CODE 6560-50-P